SMALL BUSINESS ADMINISTRATION

Small Business Size Standards: Waiver of the Nonmanufacturer Rule

AGENCY: U.S. Small Business Administration.

ACTION: Notice to waive the Nonmanufacturer Rule for Control Cable and Conductors; Trailers and Heavy Duty Truck Tractors; and Line Hardware (Insulator Strings) Manufacturing.

SUMMARY: The U.S. Small Business Administration (SBA) is granting a waiver of the Nonmanufacturer Rule for Control Cable and Conductors, Trailers and Heavy Duty Truck Tractors, and Line Hardware (Insulator Strings) Manufacturing. The basis for waiver is that no small business manufacturers are supplying these classes of products to the Federal government. The effect of a waiver would be to allow otherwise qualified regular dealers to supply the products of any manufacturer on a Federal contract set aside for small businesses, service-disabled veteran-owned small businesses or participants in SBA's 8(a) Business Development Program.

DATES: This waiver is effective December 22, 2008.

FOR FURTHER INFORMATION CONTACT: Edith G. Butler, Program Analyst, by telephone at (202) 619-0422; by FAX at (202) 481-1788; or by e-mail at Edith.Butler@sba.gov.

SUPPLEMENTARY INFORMATION: Section 8(a)(17) of the Small Business Act (Act), 15 U.S.C. 637(a)(17), requires that recipients of Federal contracts set aside for small businesses, or SBA's 8(a) Business Development Program provide the product of a small business manufacturer or processor, if the recipient is other than the actual manufacturer or processor of the product. SBA's regulations provided the same for procurements set aside for service-disabled veteran-owned small business concerns. This requirement is commonly referred to as the Nonmanufacturer Rule. See 13 CFR 121.406(b). Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal government within the last 24 months. 13 CFR 1202(c).

The SBA defines “class of products” based on the Office of Management and Budget's North American Industry Classification System (NAICS).

SBA received a request on September 4, 2008, to waive the Nonmanufacturer Rule for Control Cable and Conductors, NAICS 335931, Product Service Code (PSC) 6145, Trailers and Heavy Duty Truck Tractors, NAICS 333924, PCS 2330 and Line Hardware (Insulator Strings) Manufacturing, 335932, PSC 6145.

In response, on October 10, 2008, SBA published in the Federal Register a notice of intent to waive the Nonmanufacturer Rule for Control Cable and Conductors, Trailers and Heavy Duty Truck Tractors, and Line Hardware (Insulator Strings). SBA explained in the notice that it was soliciting comments and sources of small business manufacturers of this class of products. No comments were received and SBA has determined that there are no small business manufacturers of these classes of products. Therefore, SBA is granting the waiver of the Nonmanufacturer Rule for Control Cable and Conductors, Trailers and Heavy Duty Truck Tractors, and Line Hardware (Insulator Strings) Manufacturing.

Dated: December 1, 2008.
Karen C. Hontz,
Director for Government Contracting.

[FR Doc. E8-28750 Filed 12-4-08; 8:45 am]

BILLING CODE 8025-01-P